DEPARTMENT OF EDUCATION

Submission for OMB Review; Comment Request

AGENCY: Department of Education.

ACTION: Correction notice.

SUMMARY: On December 11, 2003, the Department of Education published a 30-day public comment period notice in the Federal Register (Page 69074, Column 2) for the information collection, “Part B of the Individuals with Disabilities Education Act Biennial Performance Report”. The correct title for this collection should be: “Part B of the Individuals with Disabilities Education Act Annual Performance Report” and the Abstract should read, “State educational agencies are required to establish goals for the performance of children with disabilities in that State that promote the purposes of Part B of the Individuals with Disabilities Education Act (Part B). States must also establish performance indicators that the State will use to assess its progress in achieving these goals. Section 612(a)(16) of Part B requires States to report to the Secretary on the progress that the State has made toward meeting its goals. The Office of Special Education Programs (OSEP) is implementing an integrated, four-part accountability strategy: (1) Verifying the effectiveness and accuracy of States' monitoring, assessment, and data collection systems; (2) attending to States at high risk for compliance, financial, and/or management failure; (3) supporting States in assessing their performance and compliance, and in planning, implementing, and evaluating improvement strategies; and (4) focusing OSEP's intervention on States with low ranking performance on critical performance indicators. Component 3 of OSEP's accountability strategy is implemented through this Annual Performance Report. Reporting requirements for States' Self-Assessment, Improvement Plans, and Biennial Performance Reports are being combined in this Part B Annual Performance Report.” The Leader, Regulatory Information Management Group, Office of the Chief Information Officer, hereby issues a correction notice as required by the Paperwork Reduction Act of 1995.

FOR FURTHER INFORMATION CONTACT: Sheila Carey at her e-mail address Sheila.Carey@ed.gov.

Dated: December 19, 2003.
Angela C. Arrington,
Leader, Regulatory Information Management Group, Office of the Chief Information Officer.

[FR Doc. 03-31710 Filed 12-23-03; 8:45 am]

BILLING CODE 4000-01-P